DEPARTMENT OF DEFENSE

Defense Information Systems Agency

Privacy Act of 1974; System of Records

AGENCY: Defense Information Systems Agency, DoD.

ACTION: Notice to add a system of records.

SUMMARY: The Defense Information Systems Agency proposes to add a system of records notice to its inventory of record systems subject to the Privacy Act of 1974 (5 U.S.C. 552a), as amended.

DATES: This proposed action will be effective without further notice on April 20, 2006 unless comments are received which result in a contrary determination.

ADDRESSES: Send comments to the Defense Information Systems Agency, ATTN: Records Manager (SPI21), P.O. Box 4520, Arlington, VA 22204-4502.

FOR FURTHER INFORMATION CONTACT: Ms. Jeanette Jenkins at (703) 681-2103.

SUPPLEMENTARY INFORMATION: The Defense Information Systems Agency systems of records notices subject to the Privacy Act of 1974, (5 U.S.C. 552a), as amended, have been published in the Federal Register and are available from the address above.

The proposed system report, as required by 5 U.S.C. 552a(r) of the Privacy Act, was submitted on March 9, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (61 FR 6427, February 20, 1996).

Dated: March 15, 2006.
L.M. Bynum,
OSD Federal Register Liaison Officer, Department of Defense.

K890.09

System name:

Enterprise Data and Global Exchange (EDGE) Knowledge Management Portal.

System location:

Defense Information Systems Agency (DISA), ATTN: SPI21, P.O. Box 4502, Arlington, VA 22204-4502.

Categories of individuals covered by the system:

DISA Civilian employees, Military personnel assigned or detailed to DISA, and Contractors assigned to all DISA elements, including DISA field activities.

Categories of records in the system:

Individual's name, duty title, grade, social security number, address and phone number.

Authority for maintenance of the system:

5 U.S.C. 301, Departmental Regulation; 10 U.S.C. chp 8; DoD Directive 5105.19, Defense Information Systems Agency (DISA); E.O. 9397 (SSN).

Purpose(s):

The purpose of this system is to provide valid DISA users centralized access to agency information, data and applications via web-based technology.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DISA's compilation of systems of records notices apply to this system.

Policies and practices for storing, retrieving, accessing, retaining, and disposing of records in the system:

Storage:

Records are stored in an encrypted format and maintained on magnetic tapes and disks, and are housed in a controlled computer media library.

Retrievability:

Records are retrieved by name and Social Security Number.

Safeguards:

Buildings are secured by guards during non-duty hours. Access to records is controlled by management personnel, who are responsible for maintaining the confidentiality of the records and using the information contained therein only for official purposes. Access to personal information is restricted to those who require the records in the performance of their official duties. Access to personal information is further restricted by the use of passwords.

Retention and disposal:

Records are continuously updated. Obsolete computer records are erased or overwritten.

System manager(s) and address:

Records Manager, SPI21, Defense Information Systems Agency, P.O. Box 4520, Arlington, VA 22204-4502.

Notification procedure:

Individuals seeking to determine whether information about themselves is contained in this system of records should address written inquiries to Records Manager, SPI21, Defense Information Systems Agency, P.O. Box 4520, Arlington, VA 22204-4502.

The individual should make reference to the office where he/she is/was assigned or affiliated and include address and telephone number applicable to the period during which the record was maintained. Social Security Number should be included in the inquiry for positive identification.

Record access procedures:

Individuals seeking access to information about themselves contained in this system of records should address written inquiries to Records Manager, SPI21, Defense Information Systems Agency, P.O. Box 4520, Arlington, VA 22204-4502.

The individual should make reference to the office where he/she is/was assigned or affiliated and include address and telephone number applicable to the period during which the record was maintained. Social Security Number should be included in the inquiry for positive identification.

Contesting record procedures:

DISA's rules for accessing records, for contesting contents and appealing initial agency determinations are published in DISA Instruction 210-225-2 at 32 CFR part 316 or may be obtained from the system manager.

Record source categories:

Individuals and Manpower Systems (MPS) records.

Exemptions claimed for the system:

None.

[FR Doc. 06-2683 Filed 3-20-06; 8:45 am]

BILLING CODE 5001-06-M